DEPARTMENT OF ENERGY

Federal Energy Regulatory Commission

Combined Notice of Filings # 1

Take notice that the Commission received the following electric rate filings:

Docket Numbers: ER10-1862-039; ER10-1873-019; ER10-1875-019; ER10-1876-020; ER10-1878-019; ER10-1883-019; ER10-1884-019; ER10-1885-019; ER10-1888-019; ER10-1893-039; ER10-1934-039; ER10-1938-040; ER10-1941-019; ER10-1942-037; ER10-1947-020; ER10-2042-045; ER10-2985-043; ER10-3049-044; ER10-3051-044; ER11-4369-024; ER12-1987-017; ER12-2261-018; ER12-2645-012; ER13-1407-014; ER16-2218-025; ER17-696-025; ER19-1127-009; ER20-1699-007; ER23-944-003.

Applicants: Calpine Community Energy, LLC, Johanna Energy Center, LLC, Calpine King City Cogen, LLC, Calpine Energy Solutions, LLC, North American Power Business, LLC,CCFC Sutter Energy, LLC, Pastoria Energy Facility L.L.C., Russell City Energy Company, LLC, O.L.S. Energy-Agnews, Inc., North American Power and Gas, LLC, Champion Energy, LLC, Champion Energy Services, LLC, Champion Energy Marketing LLC, Calpine Energy Services, L.P.,Otay Mesa Energy Center, LLC, Calpine Construction Finance Company, L.P., Calpine Gilroy Cogen, L.P., Calpine Power America—CA, LLC,CES Marketing IX, LLC,CES Marketing X, LLC, Creed Energy Center, LLC, Delta Energy Center, LLC, Geysers Power Company, LLC, Gilroy Energy Center, LLC, Goose Haven Energy Center, LLC, Los Esteros Critical Energy Facility, LLC, Los Medanos Energy Center LLC, Metcalf Energy Center, LLC, Power Contract Financing, L.L.C.

Description: Notice of Change in Status of Power Contract Financing, L.L.C., et al.

Filed Date: 6/14/23.

Accession Number: 20230614-5142.

Comment Date: 5 p.m. ET 7/5/23.

Docket Numbers: ER23-1246-001.

Applicants: Generac Grid Services LLC.

Description: Second Supplement to March 6, 2023 Generac Grid Services LLC tariff filing.

Filed Date: 6/14/23.

Accession Number: 20230614-5139.

Comment Date: 5 p.m. ET 6/26/23.

Docket Numbers: ER23-1279-001.

Applicants: DTE Energy Services, Inc.

Description: Tariff Amendment: DTE Energy Services Deficiency Response Filing to be effective 3/10/2023.

Filed Date: 6/15/23.

Accession Number: 20230615-5052.

Comment Date: 5 p.m. ET 7/6/23.

Docket Numbers: ER23-1840-001.

Applicants: Apollo Power Inc.

Description: Tariff Amendment: MBR to be effective 7/25/2023.

Filed Date: 6/15/23.

Accession Number: 20230615-5032.

Comment Date: 5 p.m. ET 7/6/23.

Docket Numbers: ER23-2140-000.

Applicants: Bull Run Energy LLC.

Description: Bull Run Energy LLC submits Prospective Limited Waiver Request of Sections 25.6.2.3.2 and 30.11.1 of Attachment A of the NYISO OATT.

Filed Date: 6/12/23.

Accession Number: 20230612-5228.

Comment Date: 5 p.m. ET 7/3/23.

Docket Numbers: ER23-2141-000.

Applicants: Southwest Power Pool, Inc.

Description: § 205(d) Rate Filing: 1276R30 Evergy Metro NITSA NOA to be effective 9/1/2023.

Filed Date: 6/15/23.

Accession Number: 20230615-5001.

Comment Date: 5 p.m. ET 7/6/23.

Docket Numbers: ER23-2142-000.

Applicants: ISO New England Inc., Versant Power.

Description: § 205(d) Rate Filing: ISO New England Inc. submits tariff filing per 35.13(a)(2)(iii): Versant Power; Change in Real Power Loss Rate in Schedule 21-VP to be effective 9/1/2023.

Filed Date: 6/15/23.

Accession Number: 20230615-5002.

Comment Date: 5 p.m. ET 7/6/23.

Docket Numbers: ER23-2143-000.

Applicants: Nevada Power Company.

Description: § 205(d) Rate Filing: NPC SPPC Tariff Amendment Phase 2 Resource Sufficiency to be effective 7/1/2023.

Filed Date: 6/15/23.

Accession Number: 20230615-5012.

Comment Date: 5 p.m. ET 7/6/23.

Docket Numbers: ER23-2144-000.

Applicants: Southwest Power Pool, Inc.

Description: § 205(d) Rate Filing: 1883R12 Evergy Kansas Central, Inc. NITSA NOA to be effective 9/1/2023.

Filed Date: 6/15/23.

Accession Number: 20230615-5013.

Comment Date: 5 p.m. ET 7/6/23.

Docket Numbers: ER23-2145-000.

Applicants: Southern California Edison Company.

Description: § 205(d) Rate Filing: Termination of LA, Banning Energy Storage (WDT1648/SA. No. 1137) to be effective 8/15/2023.

Filed Date: 6/15/23.

Accession Number: 20230615-5037.

Comment Date: 5 p.m. ET 7/6/23.

Docket Numbers: ER23-2146-000.

Applicants: SunZia Transmission, LLC.

Description: Initial rate filing: Initial Open Access Transmission Tariff (OATT) Filing to be effective 8/15/2023.

Filed Date: 6/15/23.

Accession Number: 20230615-5043.

Comment Date: 5 p.m. ET 7/6/23.

Docket Numbers: ER23-2147-000.

Applicants: Southwest Power Pool, Inc.

Description: § 205(d) Rate Filing: 1885R13 Evergy Kansas Central, Inc. NITSA NOA to be effective 9/1/2023.

Filed Date: 6/15/23.

Accession Number: 20230615-5044.

Comment Date: 5 p.m. ET 7/6/23.

Docket Numbers: ER23-2148-000.

Applicants: Persimmon Creek Wind Farm 1, LLC.

Description: Tariff Amendment: Notice of Cancellation of Market-Based Rate Tariff to be effective 6/16/2023.

Filed Date: 6/15/23.

Accession Number: 20230615-5077.

Comment Date: 5 p.m. ET 7/6/23.

Docket Numbers: ER23-2149-000.

Applicants: Oklahoma Gas and Electric Company.

Description: § 205(d) Rate Filing: correction to Worksheet M to be effective 2/11/2023.

Filed Date: 6/15/23.

Accession Number: 20230615-5081.

Comment Date: 5 p.m. ET 7/6/23.

Docket Numbers: ER23-2150-000.

Applicants: PJM Interconnection, L.L.C.

Description: § 205(d) Rate Filing: Original ISA, SA No. 6953 and CSA, SA No. 6954; Queue No. AE2-216 to be effective 5/22/2023.

Filed Date: 6/15/23.

Accession Number: 20230615-5112.

Comment Date: 5 p.m. ET 7/6/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 15, 2023.
Debbie-Anne A. Reese,
Deputy Secretary.

[FR Doc. 2023-13281 Filed 6-21-23; 8:45 am]

BILLING CODE 6717-01-P